DEPARTMENT OF DEFENSE

Office of the Secretary

Intent To Prepare an Environmental Impact Statement for the East Campus Integration Program Within the Fort Meade Complex, Maryland

AGENCY: Department of Defense.

ACTION: Notice of intent; notice of public meeting; request for comments.

SUMMARY: The Department of Defense (DoD) announces its intent to prepare an Environmental Impact Statement (EIS) as part of the environmental planning process for the East Campus Integration Program at Fort George G. Meade, Maryland (hereafter referred to as Fort Meade). The DoD proposes to develop operational complex and headquarters space at the National Security Agency's (NSA) East Campus on Fort Meade for use by NSA and the Intelligence Community. The purpose of the Proposed Action is to provide facilities that are fully supportive of the Intelligence Community's function and to continue to integrate the East Campus site with the NSA Main Campus. The need for the action is to meet mission requirements, both internally at the NSA and within the Intelligence Community.

Publication of this notice begins a scoping process that identifies and determines the scope of environmental issues to be addressed in the EIS. This notice requests public participation in the scoping process and provides information on how to participate.

DATES: There will be an open house at 4:00 p.m. followed by a scoping meeting from 5:00 p.m. to 7:00 p.m. on January 27, 2015. Comments or questions regarding this EIS should be submitted by February 27, 2015 to ensure sufficient time to consider public input in the preparation of the Draft EIS.

ADDRESSES: The open house and scoping meeting will be held at the Severn Community Library, 2624 Annapolis Road, Severn, Maryland 21144. Verbal and written comments will be accepted at the scoping meeting. You can also submit written comments to “East Campus Integration Program EIS” c/o HDR, 2600 Park Tower Drive, Suite 100, Vienna, VA 22180 or submit by email to ECIPEIS@hdrinc.com.

FOR FURTHER INFORMATION CONTACT: Mr. Jeffrey Williams at 301-688-2970, or email jdwill2@nsa.gov.

SUPPLEMENTARY INFORMATION:

Background: The NSA is a tenant DoD agency on Fort Meade. NSA is a high-technology communications and data processing organization. In order to meet mission requirements, both at the NSA and within the Intelligence Community, continued integration of the East Campus with the NSA Main Campus on Fort Meade through development of office, operational, and headquarters space is needed. In 2010, NSA completed an EIS that addressed development of the East Campus, which is the northern part of the former Fort Meade golf course. The Record of Decision implemented the first phase of development identified in that EIS, which is currently occurring in the southern portion of the East Campus. This upcoming East Campus Integration Program EIS will address buildout of the northern portion of the East Campus.

Proposed Action and Alternatives: The East Campus Integration Program was initiated to provide a modern office, operational, and headquarters complex to meet the growth requirements of the NSA and Intelligence Community. Development is proposed along the East Campus central core extending through the NSA Main Campus at Fort Meade. The Proposed Action would consist of the construction of approximately 2,880,000 square feet of office, operational, and headquarters space supporting an increase of 7,200 people with the majority from local leases and government-owned buildings to the NSA Main Campus. The program also includes the demolition of approximately 1,900,000 square feet of aged buildings and infrastructure. Development would include associated infrastructure (e.g., electrical substation, generator capacity providing 121 megawatts of electricity, life/safety generators, building heating systems, roads, sidewalks, storm water management facilities, and parking structures).

Alternatives identified include four options for redundant emergency backup power generation and various pollution control systems, two options for building heating systems, four options for locations of parking structures, and acquisition of additional space at two existing, offsite leased locations. These alternatives will be further developed during preparation of the Draft EIS as a result of public and agency input and environmental analyses of the activities. The No Action Alternative (not undertaking the East Campus Integration Program) will also be analyzed in detail.

This notice of intent is required by 40 Code of Federal Regulations (CFR) 1508.22 and briefly describes the Proposed Action and possible alternatives and our proposed scoping process. The EIS will comply with the National Environmental Policy Act of 1969 (NEPA) (42 U.S.C. 4321 et seq.), the Council on Environmental Quality regulations in 40 CFR parts 1500 through 1508, and DoD Instruction 4715.9 (Environmental Planning and Analysis).

Significant Issues: Environmental issues to be analyzed in the EIS will include potential impacts on air quality, noise, natural resources, water use, solid waste, hazardous materials and wastes, transportation, and cumulative impacts from increased burdens on the installation and neighboring community based on projected development.

Scoping Process: Public scoping is an early and open process for identifying and determining the scope of issues to be addressed in the EIS. Scoping begins with this notice, continues through the public comment period (see DATES), and ends when the DoD has completed the following actions:

—Invites the participation of Federal, State, and local agencies, any affected Indian tribes, and other interested persons;

—Determines the actions, alternatives, and impacts described in 40 CFR 1508.25;

—Identifies and eliminates from detailed study those issues that are not significant or that have been covered elsewhere;

—Indicates any related EISs or environmental assessments (EAs) that are not part of the EIS;

—Identifies other relevant environmental review and consultation requirements;

—Indicates the relationship between timing of the environmental review and other aspects of the proposed program;

—At its discretion, exercises the options provided in 40 CFR 1501.7(b).

Once the scoping process is complete, DoD will prepare a Draft EIS, and will publish a Federal Register notice announcing its public availability. If you want that notice to be sent to you, please contact the DoD Project Office point of contact identified in FOR FURTHER INFORMATION CONTACT. You will have an opportunity to review and comment on the Draft EIS. Additionally, the DoD anticipates holding a public meeting after publication of the Draft EIS in the vicinity of Fort Meade, Maryland, to present the Draft EIS and receive public comments regarding the document. The DoD will consider all comments received and then prepare the Final EIS. As with the Draft EIS, the DoD will announce the availability of the Final EIS and once again give you an opportunity for review and comment.

Dated: December 19, 2014.
Aaron Siegel,
Alternate OSD Federal Register Liaison Officer, Department of Defense.

[FR Doc. 2014-30343 Filed 1-2-15; 8:45 am]

BILLING CODE 5001-06-P